ENVIRONMENTAL PROTECTION AGENCY

[FRL-9113-4]

Agency Information Collection Activities OMB Responses

AGENCY: Environmental Protection Agency (EPA).

ACTION: ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 2300.04; Regulation to Establish Mandatory Reporting of Greenhouse Gases (Change: Add two forms); 40 CFR parts 86, 89, 90, 94, 98, 600, 1033, 1039, 1042, 1045, 1048, 1051, 1054 and1065 was approved on 01/05/2010; OMB Number 2060-0629; expires on 11/30/2012; Approved without change.

EPA ICR Number 1686.07; NESHAP for the Secondary Lead Smelter Industry; 40 CFR part 63, subpart A and 40 CFR part 63, subpart X; was approved on 01/12/2010; OMB Number 2060-0296; expires on 01/31/2013; Approved without change.

EPA ICR Number 1900.04; NSPS for Small Municipal Waste Combustors; 40 CFR part 60, subpart A and 40 CFR part 60, subpart AAAA; was approved on 01/12/2010; OMB Number 2060-0423; expires on 01/31/2013; Approved without change.

EPA ICR Number 1730.08; NSPS for Hospital/Medical/Infectious Waste Incinerators; 40 CFR part 60, subpart A and 40 CFR part 60 subpart Ec; was approved on 01/14/2010; OMB Number 2060-0363; expires on 01/31/2013; Approved without change.

EPA ICR Number 2177.03; NSPS for Stationary Combustion Turbines; 40 CFR part 60, subpart A and 40 CFR part 60, subpart KKKK; was approved on 01/21/2010; OMB Number 2060-0582; expires on 01/31/2013; Approved without change.

EPA ICR Number 1088.12; NSPS for Industrial-Commercial-Institutional Steam Generating Units; 40 CFR part 60, subpart A and 40 CFR part 60, subpart Db; was approved on 01/21/2010; OMB Number 2060-0072; expires on 01/31/2013; Approved without change.

EPA ICR Number 1061.11; NSPS for the Phosphate Fertilizer Industry; 40 CFR part 60, subparts A, T, U, V, W, and X, was approved on 01/21/2010; OMB Number 2060-0037; expires on 01/31/2013; Approved without change.

EPA ICR Number 1052.09; NSPS for Fossil-Fuel-Fired Steam Generating Units; 40 CFR part 60, subpart A and 40 CFR part 60, subpart D; was approved on 01/21/2010; OMB Number 2060-0026; expires on 01/31/2013; Approved without change.

EPA ICR Number 1772.05; EPA's ENERGY STAR Program in the Commercial and Industrial Sectors (Renewal); was approved on 01/21/2010; OMB Number 2060-0347; expires on 01/31/2013; Approved without change.

EPA ICR Number 2362.02; Information Collection Effort for New and Existing Coal- and Oil-fired Electric Utility Steam Generating Units; was approved on 01/26/2010; OMB Number 2060-0631; expires on 12/31/2012; Approved with change.

EPA ICR Number 0262.13; RCRA Hazardous Waste Permit Application and Modification, Part A (Renewal); 40 CFR 270.11, 270.13, 270.70, and 270.72, was approved on 01/26/2010; OMB Number 2050-0034; expires on 07/31/2012; Approved without change.

EPA ICR Number 1093.09; NSPS for Surface Coating of Plastic Parts for Business Machines; 40 CFR part 60, subpart A and 40 CFR part 60, subpart TTT; was approved on 01/28/2010; OMB Number 2060-0162; expires on 01/31/2013; Approved without change.

EPA ICR Number 1128.09; NSPS for Secondary Lead Smelters; 40 CFR part 60, subpart A and 40 CFR part 60, subpart L; was approved on 01/28/2010; OMB Number 2060-0080; expires on 01/31/2013; Approved without change.

Comment Filed

EPA ICR Number 2378.01; Revisions to Pb Ambient Air Monitoring Requirements—Proposed Rule; in 40 CFR part 58; OMB filed comment on 01/04/2010.

Dated: February 9, 2010.
John Moses,
Director, Collections Strategies Division.

[FR Doc. 2010-2982 Filed 2-9-10; 8:45 am]

BILLING CODE 6560-50-P